DEPARTMENT OF HEALTH AND HUMAN SERVICES

National Institutes of Health

Submission for OMB Review; 30-Day Comment Request Identifying Experts in Prevention Science Methods To Include on NIH Review Panels, (Office of the Director, Office of Disease Prevention)

AGENCY: National Institutes of Health, HHS.

ACTION: Notice.

SUMMARY: In compliance with the requirement of the Paperwork Reduction Act of 1995, the National Institutes of Health (NIH) has submitted to the Office of Management and Budget (OMB) a request for review and approval of the information collection listed below.

DATES: Comments regarding this information collection are best assured of having their full effect if received within 30 days of the date of this publication.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: To request more information on the proposed project or to obtain a copy of the data collection plans and instruments, contact: Ms. Keisha L. Shropshire, ODP Project Clearance Liaison, NIH Office of Disease Prevention, 6100 Executive Blvd., Room 2B03, Bethesda, MD 20892 or call (301) 827-5561 or email your request, including your address, to odp_prapubliccomments@od.nih.gov. Formal requests for additional plans and instruments must be requested in writing.

SUPPLEMENTARY INFORMATION: This proposed information collection was previously published in the Federal Register on August 6, 2020, page 47805 (85 FR 47805) and allowed 60 days for public comment. No public comments were received. The purpose of this notice is to allow an additional 30 days for public comment. The Office of Disease Prevention (ODP), National Institutes of Health, may not conduct or sponsor, and the respondent is not required to respond to, an information collection that has been extended, revised, or implemented on or after October 1, 1995, unless it displays a currently valid OMB control number.

In compliance with Section 3507(a)(1)(D) of the Paperwork Reduction Act of 1995, the National Institutes of Health (NIH) has submitted to the Office of Management and Budget (OMB) a request for review and approval of the information collection listed below.

Proposed Collection: Identifying Experts in Prevention Science Methods to Include on NIH Review Panels, OMB# 0925-0728—REVISION, exp. 11/30/2020, Office of Disease Prevention (ODP), National Institutes of Health (NIH).

Need and Use of Information Collection: The Office of Disease Prevention (ODP) is the lead Office at the National Institutes of Health (NIH) responsible for assessing, facilitating, and stimulating research in disease prevention and health promotion, and disseminating the results of this research to improve public health. Prevention is preferable to treatment, and research on disease prevention is an important part of the NIH's mission. The knowledge gained from this research leads to stronger clinical practice, health policy, and community health programs. ODP collaborates with NIH, other Department of Health and Human Services (HHS) agencies, and other public and private partners to achieve the Office's mission and goals. One of ODP's priorities is to promote the use of the best available methods in prevention research and support the development of better study designs and research methods. One of our strategies is to help NIH Institutes, Centers, and Offices identify experts in prevention science methods to include on their peer review panels. This strengthens the panels and improves the quality of the prevention-related research supported by NIH. To identify experts in prevention science methods, we have developed online software that allows us to collect scientists' names, contact information, and resumes, as well as to have those scientists identify their level of expertise in a variety of prevention science methods and content areas. The data are used to populate a web-based tool that NIH staff can use to identify scientists with prevention-related research expertise in specific research methods and study designs for invitation to serve as a reviewer on an NIH study section. This system is also shared with review staff from other HHS agencies, to use in the same way. This OMB revision request is for the continued collection of existing data and to update the Prevention Research Expertise Survey (PRES) tool in order to capture areas of expertise not previously collected in the current survey, including additional study design topics, research methods, content topics, and settings in which the respondent's research is performed. The revised PRES also simplifies a question about the respondent's previous NIH review experience and asks researchers who have already completed previous versions of the survey to update their information based on the revised topics.

OMB approval is requested for 3 years. There are no costs to respondents other than their time. The total estimated annualized burden hours are 417.

Estimated Annualized Burden Hours
Type of respondent | Number of respondents | Number of responses per respondent | Average burden per response (in hours) | Total annual burden hour
New Investigators | 600 | 1 | 25/60 | 250
Returning Investigators (to update information) | 1,000 | 1 | 10/60 | 167
Total |  | 1,600 |  | 417

Dated: October 19, 2020.
Lawrence A. Tabak,
Principal Deputy Director, National Institutes of Health.

[FR Doc. 2020-23587 Filed 10-23-20; 8:45 am]

BILLING CODE 4140-01-P